DEPARTMENT OF HOMELAND SECURITY

U.S. Citizenship and Immigration Services

[CIS No. 2686-21; DHS Docket No. USCIS-2021-0005]

RIN 1615-ZB88

Extension and Redesignation of Burma (Myanmar) for Temporary Protected Status

AGENCY: U.S. Citizenship and Immigration Services (USCIS), Department of Homeland Security (DHS).

ACTION: Notice of Temporary Protected Status (TPS) extension and redesignation.

SUMMARY: Through this notice, the Department of Homeland Security (DHS) announces that the Secretary of Homeland Security (Secretary) is extending the designation of Burma for Temporary Protected Status (TPS) for 18 months, effective from November 26, 2022, through May 25, 2024. This extension allows existing TPS beneficiaries to retain TPS through May 25, 2024, so long as they otherwise continue to meet the eligibility requirements for TPS. Existing TPS beneficiaries who wish to extend their status through May 25, 2024, must re-register during the 60-day re-registration period described in this notice. The Secretary is also redesignating Burma for TPS. The redesignation of Burma allows additional Burmese nationals (and individuals having no nationality who last habitually resided in Burma) who have been continuously residing in the United States since September 25, 2022 to apply for TPS for the first time during the initial registration period described under the redesignation information in this notice. In addition to demonstrating continuous residence in the United States since September 25, 2022 and meeting other eligibility criteria, initial applicants for TPS under this designation must demonstrate that they have been continuously physically present in the United States since November 26, 2022, the effective date of this redesignation of Burma for TPS.

DATES:

Extension of Designation of Burma for TPS: The 18-month extension of Burma's designation for TPS is effective on November 26, 2022, and will remain in effect for 18 months, through May 25, 2024. The extension impacts existing beneficiaries of TPS.

Re-registration: The 60-day re-registration period for existing beneficiaries runs from September 27, 2022 through November 26, 2022. (Note: It is important for re-registrants to timely re-register during the registration period and not to wait until their Employment Authorization Documents (EADs) expire, as delaying re-registration could result in gaps in their employment authorization documentation.)

Redesignation of Burma for TPS: The 18-month redesignation of Burma for TPS is effective on November 26, 2022, and will remain in effect for 18 months, through May 25, 2024. The redesignation impacts potential first-time applicants and others who do not currently have TPS.

First-time Registration: The initial registration period for new applicants under the Burma TPS redesignation begins on September 27, 2022 and will remain in effect through May 25, 2024.

FOR FURTHER INFORMATION CONTACT: You may contact Rená Cutlip-Mason, Chief, Humanitarian Affairs Division, Office of Policy and Strategy, U.S. Citizenship and Immigration Services, Department of Homeland Security, by mail at 5900 Capital Gateway Drive, Camp Springs, MD 20746, or by phone at 800-375-5283.

For further information on TPS, including guidance on the registration process and additional information on eligibility, please visit the USCIS TPS web page at uscis.gov/tps. You can find specific information about Burma's TPS designation by selecting “Burma” from the menu on the left side of the TPS web page.

If you have additional questions about TPS, please visit uscis.gov/tools. Our online virtual assistant, Emma, can answer many of your questions and point you to additional information on our website. If you are unable to find your answers there, you may also call our USCIS Contact Center at 800-375-5283 (TTY 800-767-1833).

Applicants seeking information about the status of their individual cases may check Case Status Online, available on the USCIS website at uscis.gov, or visit the USCIS Contact Center at uscis.gov/contactcenter.

Further information will also be available at local USCIS offices upon publication of this notice.

SUPPLEMENTARY INFORMATION:

Table of Abbreviations

BIA—Board of Immigration Appeals

CFR—Code of Federal Regulations

DHS—U.S. Department of Homeland Security

DOS—U.S. Department of State

EAD—Employment Authorization Document

FNC—Final Nonconfirmation

Form I-765—Application for Employment Authorization

Form I-797—Notice of Action (Approval Notice)

Form I-821—Application for Temporary Protected Status

Form I-9—Employment Eligibility Verification

Form I-912—Request for Fee Waiver

Form I-94—Arrival/Departure Record

FR—Federal Register

Government—U.S. Government

IER—U.S. Department of Justice, Civil Rights Division, Immigrant and Employee Rights Section

IJ—Immigration Judge

INA—Immigration and Nationality Act

SAVE—USCIS Systematic Alien Verification for Entitlements Program

Secretary—Secretary of Homeland Security

TNC—Tentative Nonconfirmation

TPS—Temporary Protected Status

TTY—Text Telephone

USCIS—U.S. Citizenship and Immigration Services

U.S.C.—United States Code

Purpose of This Action (TPS)

Through this notice, DHS sets forth procedures necessary for nationals of Burma (or individuals having no nationality who last habitually resided in Burma) to (1) re-register for TPS and to apply for renewal of their EADs with USCIS or (2) submit an initial registration application under the redesignation and apply for an EAD.

Re-registration is limited to individuals who have previously registered for TPS under the prior designation of Burma and whose applications have been granted. Failure to re-register properly during the 60-day re-registration period may result in the withdrawal of your TPS following appropriate procedures. See 8 CFR 244.14.

For individuals who have already been granted TPS under Burma's designation, the 60-day re-registration period runs from September 27, 2022 through November 26, 2022. USCIS will issue new EADs with a May 25, 2024 expiration date to eligible Burmese TPS beneficiaries who timely re-register and apply for EADs. Given the time frames involved with processing TPS re-registration applications, DHS recognizes that not all re-registrants may receive new EADs before their current EADs expire. Accordingly, through this Federal Register notice, DHS automatically extends the validity of EADs previously issued under the TPS designation of Burma through November 25, 2023. Therefore, as proof of continued employment authorization through November 25, 2023, TPS beneficiaries can show their EADs that have the notation A-12 or C-19 under Category and a “Card Expires” date of November 25, 2022. This notice explains how TPS beneficiaries and their employers may determine which EADs are automatically extended and how this affects the Form I-9, Employment Eligibility Verification, E-Verify, and USCIS Systematic Alien Verification for Entitlements (SAVE) processes.

Individuals who have a Burma TPS application (Form I-821) and/or Application for Employment Authorization (Form I-765) that was still pending as of September 27, 2022 do not need to file either application again. If USCIS approves an individual's Form I-821, USCIS will grant the individual TPS through May 25, 2024. Similarly, if USCIS approves a pending TPS-related Form I-765, USCIS will issue the individual a new EAD that will be valid through the same date.

Under the redesignation, individuals who currently do not have TPS may submit an initial application during the initial registration period that runs from September 27, 2022 and runs through the full length of the redesignation period ending May 25, 2024.¹ In addition to demonstrating continuous residence in the United States since September 25, 2022 and meeting other eligibility criteria, initial applicants for TPS under this redesignation must demonstrate that they have been continuously physically present in the United States since November 26, 2022,² the effective date of this redesignation of Burma, before USCIS may grant them TPS. DHS estimates that approximately 2,290 individuals may become newly eligible for TPS under the redesignation of Burma.

¹ In general, individuals must be given an initial registration period of no less than 180 days to register for TPS, but the Secretary has discretion to provide for a longer registration period. See 8 U.S.C. 1254a(c)(1)(A)(iv). In keeping with the humanitarian purpose of TPS and advancing the goal of ensuring “the Federal Government eliminates . . . barriers that prevent immigrants from accessing government services available to them” under Executive Order 14012, Restoring Faith in Our Legal Immigration Systems and Strengthening Integration and Inclusion Efforts for New Americans, 86 FR 8277 (Feb. 5, 2021), the Secretary has recently exercised his discretion to provide for TPS initial registration periods that coincide with the full period of a TPS country's initial designation or redesignation. See, e.g., Designation of Haiti for Temporary Protected Status, 86 FR 41863 (Aug. 3, 2021) (providing 18-mos. registration period under new TPS designation of Haiti); Extension of Initial Registration Periods for New Temporary Protected Status Applicants Under the Designations for Venezuela, Syria and Burma; Correction to the Notice on the Designation of Venezuela for Temporary Protected Status and Implementation of Employment Authorization for Venezuelans Covered by Deferred Enforced Departure, 86 FR 41986 (Aug. 4, 2021) (extending initial registration periods from 180 days to 18 months for the three applicable countries)). For the same reasons, the Secretary is similarly exercising his discretion to provide applicants under this TPS designation of Burma with an 18-month initial registration period.

² The “continuous physical presence date” (CPP) is the effective date of the most recent TPS designation of the country, which is either the publication date of the designation announcement in the Federal Register or such later date as the Secretary may establish. The “continuous residence date” (CR) is any date established by the Secretary when a country is designated (or sometimes redesignated) for TPS. See INA § 244(b)(2)(A) (effective date of designation); 244(c)(1)(A)(i-ii) (discussing CR and CPP date requirements).

What is Temporary Protected Status (TPS)?

• TPS is a temporary immigration status granted to eligible nationals of a foreign state designated for TPS under the INA, or to eligible individuals without nationality who last habitually resided in the designated foreign state, regardless of their country of birth.

• During the TPS designation period, TPS beneficiaries are eligible to remain in the United States, may not be removed, and are authorized to work so long as they continue to meet the requirements of TPS. They may apply for and receive EADs as evidence of employment authorization.

• TPS beneficiaries may also apply for and be granted travel authorization as a matter of discretion.

• To qualify for TPS, beneficiaries must meet the eligibility standards at INA section 244(c)(1)-(2), 8 U.S.C. 1254a(c)(1)-(2).

• When the Secretary terminates a foreign state's TPS designation, beneficiaries return to one of the following:

○ The same immigration status or category that they maintained before TPS, if any (unless that status or category has since expired or terminated); or

○ Any other lawfully obtained immigration status or category they received while registered for TPS, as long as it is still valid beyond the date TPS terminates.

When was Burma designated for TPS?

Secretary of Homeland Security, Alejandro N. Mayorkas, initially designated Burma for TPS on May 25, 2021, on the basis of extraordinary and temporary conditions that prevented nationals of Burma from returning in safety. See Designation of Burma Temporary Protected Status, 86 FR 28132 (May 25, 2021).

What authority does the Secretary have to extend the designation of Burma for TPS?

Section 244(b)(1) of the INA, 8 U.S.C. 1254a(b)(1), authorizes the Secretary, after consultation with appropriate agencies of the U.S. Government, to designate a foreign state (or part thereof) for TPS if the Secretary determines that certain country conditions exist.³ The decision to designate any foreign state (or part thereof) is a discretionary decision, and there is no judicial review of any determination with respect to the designation, termination, or extension of a designation. See INA section 244(b)(5)(A); 8 U.S.C. 1254a(b)(5)(A).⁴ The Secretary, in his or her discretion, may then grant TPS to eligible nationals of that foreign state (or individuals having no nationality who last habitually resided in the designated foreign state). See INA section 244(a)(1)(A), 8 U.S.C. 1254a(a)(1)(A).

³ INA § 244(b)(1) ascribes this power to the Attorney General. Congress transferred this authority from the Attorney General to the Secretary of Homeland Security. See Homeland Security Act of 2002, Public Law 107-296, 116 Stat. 2135. The Secretary may designate a country (or part of a country) for TPS on the basis of ongoing armed conflict such that returning would pose a serious threat to the personal safety of the country's nationals and habitual residents, environmental disaster (including an epidemic), or extraordinary and temporary conditions in the country that prevent the safe return of the country's nationals. For environmental disaster-based designations, certain other statutory requirements must be met, including that the foreign government must request TPS. A designation based on extraordinary and temporary conditions cannot be made if the Secretary finds that allowing the country's nationals to remain temporarily in the United States is contrary to the U.S. national interest. Id., at § 244(b)(1).

⁴ This issue of judicial review is the subject of litigation. See, e.g., Ramos v. Wolf, 975 F.3d 872 (9th Cir. 2020), petition for en banc rehearing filed Nov. 30, 2020 (No. 18-16981); Saget v. Trump, 375 F. Supp. 3d 280 (E.D.N.Y. 2019).

At least 60 days before the expiration of a foreign state's TPS designation or extension, the Secretary, after consultation with appropriate U.S. Government agencies, must review the conditions in the foreign state designated for TPS to determine whether they continue to meet the conditions for the TPS designation. See INA section 244(b)(3)(A), 8 U.S.C. 1254a(b)(3)(A). If the Secretary determines that the foreign state continues to meet the conditions for TPS designation, the designation will be extended for an additional period of 6 months or, in the Secretary's discretion, 12 or 18 months. See INA section 244(b)(3)(A), (C), 8 U.S.C. 1254a(b)(3)(A), (C). If the Secretary determines that the foreign state no longer meets the conditions for TPS designation, the Secretary must terminate the designation. See INA section 244(b)(3)(B), 8 U.S.C. 1254a(b)(3)(B).

What is the Secretary's authority to redesignate Burma for TPS?

In addition to extending an existing TPS designation, the Secretary, after consultation with appropriate Government agencies, may redesignate a country (or part thereof) for TPS if conditions support such a designation. See section 244(b)(1) of the Act, 8 U.S.C. 1254a(b)(1); see also section 244(c)(1)(A)(i) of the Act, 8 U.S.C. 1254a(c)(1)(A)(i) (requiring that “the alien has been continuously physically present since the effective date of the most recent designation of the state”) (emphasis added).⁵

⁵ The extension and redesignation of TPS for Burma is one of several instances in which the Secretary and, prior to the establishment of DHS, the Attorney General, have simultaneously extended a country's TPS designation and redesignated the country for TPS. See, e.g., 76 FR 29000 (May 19, 2011) (extension and redesignation for Haiti); 69 FR 60168 (Oct. 7, 2004) (extension and redesignation for Sudan); 62 FR 16608 (Apr. 7, 1997) (extension and redesignation for Liberia).

When the Secretary designates or redesignates a country for TPS, the Secretary also has the discretion to establish the date from which TPS applicants must demonstrate that they have been “continuously resid[ing]” in the United States. See section 244(c)(1)(A)(ii) of the Act, 8 U.S.C. 1254a(c)(1)(A)(ii). The Secretary has determined that the “continuous residence” date for applicants for TPS under the redesignation of Burma will be September 25, 2022. Initial applicants for TPS under this redesignation must also show they have been “continuously physically present” in the United States since November 26, 2022, which is the effective date of the Secretary's redesignation, of Burma. See section 244(c)(1)(A)(i) of the Act, 8 U.S.C. 1254a(c)(1)(A)(i). For each initial TPS application filed under the redesignation, the final determination of whether the applicant has met the “continuous physical presence” requirement cannot be made until November 26, 2022, the effective date of this redesignation for Burma. USCIS, however, will issue employment authorization documentation, as appropriate, during the registration period in accordance with 8 CFR 244.5(b).

Why is the Secretary extending the TPS designation for Burma and simultaneously redesignating Burma for TPS through May 25, 2024?

DHS has reviewed country conditions in Burma. Based on the review, including consultation with DOS and other U.S. Government agencies, the Secretary has determined that an 18-month TPS extension is warranted because the extraordinary and temporary conditions supporting Burma's TPS designation remain. The Secretary has further determined that redesignating Burma for TPS under section 244(b)(3)(C), 8 U.S.C. 1254a(b)(3)(C) of the Act is warranted and is changing the “continuous residence” and “continuous physical presence” dates that applicants must meet to be eligible for TPS.

DHS has conducted a thorough review of country conditions in Burma. Since the February 1, 2021 military coup d'état, the military regime has widely committed human rights violations and abuses, including arbitrary detentions and the unwarranted use of deadly force against unarmed individuals.⁶ As a result, more than 974,000 people have been internally displaced since the coup, bringing the total number of IDPs to nearly 1.3 million people when including pre-coup displacements, and more than 45,500 additional persons have sought refuge outside Burma since the coup.⁷ Internally displaced persons and other vulnerable populations throughout the country now lack adequate and secure access to shelter, food, water and sanitation, health care, and education and are therefore also increasingly vulnerable to trafficking.

⁶ Report of the Special Rapporteur on the situation of human rights in Myanmar, Thomas H. Andrews, U.N. Human Rights Council, Mar. 16, 2022, available at: https://www.ohchr.org/en/documents/country-reports/ahrc4976-report-special-rapporteur-situation-human-rights-myanmar-thomas (last accessed May 27, 2022).

⁷ Myanmar Humanitarian Update No. 21, U.N. Office for the Coordination of Humanitarian Affairs (OCHA), September 2, 2022, p. 2., available at: https://reliefweb.int/report/myanmar/myanmar-humanitarian-update-no-21-2-september-2022 (last visited Sep. 13, 2022).

In the period following the coup, fighting between the Burmese military and groups (many of them newly formed) resisting the military's seizure of power have expanded to most parts of the country, even regions where clashes had not been seen in decades.⁸ For example, shortly after its inception, the group known as the “National Unity Government” (NUG), created an armed component to purportedly lead overall direction for resistance forces, which it refers to as the People's Defense Force (PDF).⁹ However, the growing capacity of the PDF and other forces opposed to military rule has coincided with greater instability, with hundreds of civilians killed in clashes between the military and the PDF and hundreds of thousands displaced.¹⁰ Additionally, “nearly 26,000 civilian properties, including houses, churches, monasteries, and schools are estimated to have been destroyed during hostilities, although figures are difficult to verify.” ¹¹ Since the coup, an additional 1,835 persons were killed and 10,600 arrested due to activities unrelated to the ongoing fighting, mainly during the continuing anti-coup protests.¹² On October 21, 2021, the Armed Conflict Location and Event Database (ACLED) reported that over 60% of the world's demonstrators killed by state actors died in Burma, thus naming it “the deadliest country for demonstrators.” ¹³

⁸ Myanmar's Coup Shakes Up Its Ethnic Conflicts, International Crisis Group, Jan. 12, 2022, available at: https://www.crisisgroup.org/asia/south-east-asia/myanmar/319-myanmars-coup-shakes-its-ethnic-conflicts (last accessed May 27, 2022).

⁹ Conflict seen escalating in Myanmar on anniversary of PDF, Radio Free Asia, May 11, 2022, available at: https://www.rfa.org/english/news/myanmar/anniversary-05112022202816.html (last visited May 24, 2022).

¹⁰ Conflict seen escalating in Myanmar on anniversary of PDF, Radio Free Asia, May 11, 2022, available at: https://www.rfa.org/english/news/myanmar/anniversary-05112022202816.html (last visited May 24, 2022).

¹¹ Myanmar Humanitarian Update No. 21, U.N. Office for the Coordination of Humanitarian Affairs (OCHA), September 2, 2022, p. 2., available at: https://reliefweb.int/report/myanmar/myanmar-humanitarian-update-no-21-2-september-2022 (last visited Sep. 14, 2022).

¹² Conflict seen escalating in Myanmar on anniversary of PDF, Radio Free Asia, May 11, 2022, available at: https://www.rfa.org/english/news/myanmar/anniversary-05112022202816.html (last visited May 24, 2022).

¹³ Deadly Demonstrations: Fatalities from State Engagement on the Rise, Armed Conflict Location and Event Database (ACLED), Oct. 21, 2022, available at: https://acleddata.com/2021/10/21/deadly-demonstrations/ (last visited May 23, 2022).

On March 15, 2022, the United Nations (U.N.) High Commissioner for Human Rights, Michelle Bachelet, asked the international community to take “concerted, immediate measures to stem the spiral of violence [in Burma],” ¹⁴ referencing a report from the Office of the High Commissioner for Human Rights (OHCHR) finding that the Burmese military forces target civilians and continue to use explosive weapons with wide-ranging effects in populated areas.¹⁵ On March 16, 2022, the U.N. Human Rights Council Special Rapporteur on the situation of human rights in Myanmar issued a report detailing human rights abuses committed by the Burmese military since the February 2021 coup. The report noted that the military has escalated what it labeled “indiscriminate attacks against civilians using jet fighters, attack helicopters and heavy artillery.” ¹⁶ It added that “soldiers have burned entire villages to the ground. Civilians and combatants have been tortured, raped, executed, and used as human shields.¹⁷ The U.S. Institute of Peace observed that, one year after the coup, “the violence has descended into full-scale civil war,” with devastating effects on civilians as the Burmese military used “heavy weapons and air assaults, wiping out entire villages in attempts to dislodge EAOs [ethnic armed organizations] and PDFs.” ¹⁸

¹⁴ Myanmar: `Appalling' violations demand `unified and resolute international response', U.N. News, Mar. 15, 2022, available at: https://news.un.org/en/story/2022/03/1113972 (last visited May 25, 2022).

¹⁵ Myanmar: `Appalling' violations demand `unified and resolute international response', U.N. News, Mar. 15, 2022, available at: https://news.un.org/en/story/2022/03/1113972 (last visited May 25, 2022).

¹⁶ Report of the Special Rapporteur on the situation of human rights in Myanmar, Thomas H. Andrews, U.N. Human Rights Council, Mar. 16, 2022, available at: https://www.ohchr.org/en/documents/country-reports/ahrc4976-report-special-rapporteur-situation-human-rights-myanmar-thomas (last accessed May 27, 2022).

¹⁷ Report of the Special Rapporteur on the situation of human rights in Myanmar, Thomas H. Andrews, U.N. Human Rights Council, Mar. 16, 2022, available at: https://www.ohchr.org/en/documents/country-reports/ahrc4976-report-special-rapporteur-situation-human-rights-myanmar-thomas (last accessed May 27, 2022).

¹⁸ Myanmar Study Group: Final Report—Anatomy of the Military Coup and Recommendations for U.S. Response, U.S. Institute for Peace, Feb. 1, 2022, p.5, available at https://www.usip.org/publications/2022/02/myanmar-study-group-final-report (last accessed May 27, 2022).

The coup pushed Burma into a volatile political and security situation “heavily impact[ing] [Burma's] emerging economy and the [country's] already fragile public service sector, further restricting people's access to essential services and children's access to education.” ¹⁹ “This multi-dimensional humanitarian crisis [has] affect[ed] the whole country,” ²⁰ causing large numbers of persons to flee the country as refugees or to be displaced internally. Displacement has increased exponentially since February 2021.²¹

¹⁹ Myanmar Humanitarian Needs Overview 2022, December 31,2021, p. 6, available at https://reliefweb.int/sites/reliefweb.int/files/resources/mmr_humanitarian_needs_overview_2022.pdf (last visited Aug. 12, 2022).

²⁰ Id.

²¹ Myanmar Emergency Overview Map, UNHCR, July 4, 2022, available at: https://reporting.unhcr.org/document/2851 (last visited Aug. 3, 2022).

Furthermore, though estimates are difficult to verify, about “26,000 civilian properties, including houses, churches, monasteries, and schools” ²² appear to have been destroyed since the start of the violence, a level of destruction that “will make IDP [internally displaced persons] returns more difficult even if the situation improves.” ²³

²² Myanmar Humanitarian Update No. 18, U.N. Office for the Coordination of Humanitarian Affairs (OCHA), May 31, 2022, p. 2., available at: https://reliefweb.int/report/myanmar/myanmar-humanitarian-update-no-18-31-may-2022 (last visited Jun. 8, 2022).

²³ Id.

The 2021 DOS Country Report on Human Rights Practices indicated there were reports that the military regime's security forces and some resistance organizations have engaged in “killings, disappearances, excessive use of force, disregard for civilian life, sexual violence, and other abuses.” ²⁴ According to the Assistance Association for Political Prisoners, as of June 2, 2022, there were 10,870 people currently under detention in connection with the February 2021 coup.²⁵ As of June 2, 2022, 13,926 had been arrested in connection with the coup, 3,035 persons had been released from detention, and 1,883 persons had been killed in connection with the coup.²⁶

²⁴ 2021 Country Reports on Human Rights Practices: Burma, U.S. Department of State, Apr. 12, pg. 15, available at: https://www.state.gov/reports/2021-country-reports-on-human-rights-practices/burma/ (last visited Jun. 2, 2022).

²⁵ Daily Briefing in Relation to the Military Coup, Assistance Association for Political Prisoners, Jun. 2, 2022, available at: https://https://aappb.org/?p=21971 (last visited Jun. 2, 2022).

²⁶ Id.

The coup has also exacerbated the precarious human rights situation of members of the ethnic minority Rohingya. In March 2022, the U.S. Secretary of State determined that members of the Burmese military had committed genocide and crimes against humanity against Rohingya.²⁷ Rohingya are forbidden by law from relocating within Burma and have been arrested since the 2021 coup when they have attempted to do so.²⁸ Rohingya attempting to flee Burma by boat have also perished at sea, as happened in May 2022 when 14 people died when their boat capsized as they were attempting to make the journey from Rakhine state to Malaysia.²⁹

²⁷ Genocide, Ethnic Cleansing, and Crimes Against Humanity in Burma, U.S. Department of State, undated, available at: https://www.state.gov/burma-genocide/ (last visited May 25, 2022).

²⁸ Myanmar's military coup prolongs misery for Rohingya in Rakhine, Al-Jazeera, Jan. 6, 2022, available at: https://www.aljazeera.com/news/2022/1/6/rohingya-myanmar-restrictions-on-freedom-of-movement (last visited May 31, 2022).

²⁹ At Least 17 Perish as Refugee Boat Capsizes Off Myanmar Coast, The Diplomat, May 24, 2022, available at: https://thediplomat.com/2022/05/at-least-17-perish-as-refugee-boat-capsizes-off-myanmar-coast/ (last visited May 31, 2022).

As of May 31, 2022, 4.1 million persons were estimated to face moderate to severe food insecurity with the greatest needs in violence-affected rural areas.³⁰ Access to adequate food and nutrition is a major unmet need. Severe acute malnutrition is a threat to life, with only 2 percent of the 39,477 children aged 6-59 months old targeted for assistance having received treatment.³¹ In some places, relief agencies are only recently beginning to be able to provide assistance to those rendered vulnerable by the destruction of civilian property. It was only in April 2022, for example, that UNHCR became the first U.N. agency to gain access to Kayah state, at which time they began to distribute relief supplies, including supplies related to shelter, food and sanitation, to persons in need, including internally displaced persons and returnees.³² Lack of resources, strong storms and heavy rain, and access and movement restrictions limit the U.N. and its partners from providing assistance to all of those in need.³³ As of September 2022, only 50 percent (3.1 million people) of those targeted for relief in the U.N.'s 2022 Humanitarian Response Plan (6.2 million people) had been reached with humanitarian assistance.³⁴

³⁰ Myanmar Humanitarian Update No. 18, U.N. Office for the Coordination of Humanitarian Affairs (OCHA), May 31, 2022, p. 8, available at: https://reliefweb.int/report/myanmar/myanmar-humanitarian-update-no-18-31-may-2022 (last visited Jun. 8, 2022).

³¹ Myanmar Humanitarian Update No. 18, U.N. Office for the Coordination of Humanitarian Affairs (OCHA), May 31, 2022, p. 9, available at: https://reliefweb.int/report/myanmar/myanmar-humanitarian-update-no-18-31-may-2022 (last visited Jun. 8, 2022).

³² Myanmar Humanitarian Update No. 18, U.N. Office for the Coordination of Humanitarian Affairs (OCHA), May 31, 2022, p. 3, available at: https://reliefweb.int/report/myanmar/myanmar-humanitarian-update-no-18-31-may-2022 (last visited Jun. 8, 2022).

³³ Myanmar Humanitarian Update No. 18, U.N. Office for the Coordination of Humanitarian Affairs (OCHA), May 31, 2022, p. 2., available at: https://reliefweb.int/report/myanmar/myanmar-humanitarian-update-no-18-31-may-2022 (last visited Jun. 8, 2022).

³⁴ Myanmar Humanitarian Update No. 21, U.N. Office for the Coordination of Humanitarian Affairs (OCHA), September 2, 2022, available at: https://reliefweb.int/report/myanmar/myanmar-humanitarian-update-no-21-2-september-2022 (last visited Sep. 14, 2022).

The ongoing violence and the resulting displacement in Burma have caused major vulnerabilities related to (1) shelter, (2) food security and nutrition, (3) water, sanitation and hygiene (WASH), (4) health, and (5) education.³⁵ Lack of personnel, facilities, and supplies is contributing to a “worsening of maternal and child health outcomes,” as well as to “poor emergency care” for pregnant women, victims of fighting, and persons with other related and unrelated injuries, all of which is anticipated to result in increased numbers of avoidable deaths.³⁶

³⁵ Myanmar Humanitarian Update No. 18, U.N. Office for the Coordination of Humanitarian Affairs (OCHA), May 31, 2022, available at: https://reliefweb.int/report/myanmar/myanmar-humanitarian-update-no-18-31-may-2022 (last visited Jun. 8, 2022).

³⁶ Myanmar Humanitarian Update No. 18, U.N. Office for the Coordination of Humanitarian Affairs (OCHA), May 31, 2022, p. 8-9, available at: https://reliefweb.int/report/myanmar/myanmar-humanitarian-update-no-18-31-may-2022 (last visited Jun. 8, 2022).

The coup and the ensuing protests repudiating it by the Burmese (within and outside of Burma) have deteriorated Burma's economic conditions, worsening the humanitarian crisis. The Burmese currency, the kyat, has experienced extreme volatility since the coup, as Burma's economy shrank by 18% in the year leading up to September 2021.³⁷ Critical services such as banking, telecommunications, health, and education were disrupted, and economic sanctions that had been lifted as Burma had transitioned toward democracy were reimposed.³⁸ Increasing commodity prices, particularly for food and fuel, are causing distress for thousands of people across the country. In addition to affecting Burmese people's purchasing power for essential items such as food, rising prices are beginning to affect the work of relief agencies, particularly those supplying food and shelter.³⁹

³⁷ Myanmar Central Bank Orders Government Agencies to Stop Using Foreign Currencies, The Diplomat, May 27, 2022, available at: https://thediplomat.com/2022/05/myanmar-central-bank-orders-government-agencies-to-stop-using-foreign-currencies/ (last visited May 31, 2022).

³⁸ Myanmar Central Bank Orders Government Agencies to Stop Using Foreign Currencies, The Diplomat, May 27, 2022, available at: https://thediplomat.com/2022/05/myanmar-central-bank-orders-government-agencies-to-stop-using-foreign-currencies/ (last visited May 31, 2022).

³⁹ Myanmar Humanitarian Update No. 18, U.N. Office for the Coordination of Humanitarian Affairs (OCHA), May 31, 2022, p. 2, 7-8, 14, available at: https://reliefweb.int/report/myanmar/myanmar-humanitarian-update-no-18-31-may-2022 (last visited Jun. 8, 2022).

In summary, more than a year after the Burmese military perpetrated a coup, human rights violations and abuses including sexual violence, disappearances, excessive use of force, and killings are occurring in most parts of the country. As a result, more than 974,000 people are currently internally displaced throughout the country, while more than 45,500 remain in neighboring countries after fleeing since the coup. Burma was economically vulnerable when the coup took place, but has since “suffered further economic decline, with mass job losses, business closures and the weakening of the [country's] currency, which has affected households across the country.” ⁴⁰ As a result, major vulnerabilities related to shelter, food security, human trafficking risks, and the country's economy have arisen as Burmese families have lost on average more than half of their income since the February 2021.

⁴⁰ Families in Myanmar lose more than half their income in year of conflict, says Save the Children, Jul. 28, 2022, available at: https://reliefweb.int/report/myanmar/families-myanmar-lose-more-half-their-income-year-conflict-says-save-children (last visited Aug. 12, 2022).

Based upon this review and after consultation with appropriate U.S. Government agencies, the Secretary has determined that:

• The conditions supporting Burma's designation for TPS continue to be met. See INA section 244(b)(3)(A) and (C), 8 U.S.C. 1254a(b)(3)(A) and (C).

• There continue to be extraordinary and temporary conditions in Burma that prevent Burmese nationals (or individuals having no nationality who last habitually resided in Burma) from returning to Burma in safety, and it is not contrary to the national interest of the United States to permit Burmese TPS beneficiaries to remain in the United States temporarily. See INA section 244(b)(1)(C), 8 U.S.C. 1254a(b)(1)(C).

• The designation of Burma for TPS should be extended for an 18-month period, from November 26, 2022, through May 25, 2024. See INA section 244(b)(3)(C), 8 U.S.C. 1254a(b)(3)(C).

• Due to the conditions described above, Burma should be simultaneously redesignated for TPS effective November 26, 2022, through May 25, 2024. See section 244(b)(1)(A) and (C) and (b)(2) of the Act, 8 U.S.C. 1254a(b)(1)(A) and (C) and (b)(2).

• The Secretary has determined that TPS applicants must demonstrate that they have continuously resided in the United States since September 25, 2022.

• Initial TPS applicants under the redesignation must demonstrate that they have been continuously physically present in the United States since November 26, 2022, the effective date of the redesignation of Burma for TPS.

• It is estimated that approximately 2,290 additional individuals may be eligible for TPS under the redesignation of Burma. This population includes Burmese nationals who have entered the United States since March 11, 2021, who are in nonimmigrant status or without immigration status.

Notice of the Designation of Burma for TPS

By the authority vested in me as Secretary under INA section 244, 8 U.S.C. 1254a, I have determined, after consultation with the appropriate U.S. Government agencies, the statutory conditions supporting Burma's designation for TPS on the basis of extraordinary and temporary conditions are met. See INA section 244(b)(1)(C), 8 U.S.C. 1254a(b)(1)(C). On the basis of this determination, I am simultaneously extending the existing designation of TPS for Burma for 18 months, from November 26, 2022, through May 25, 2024, and redesignating Burma for TPS for the same 18-month period. See INA section 244(b)(1)(C) and (b)(2); 8 U.S.C. 1254a(b)(1)(C), and (b)(2).

Alejandro N. Mayorkas,
Secretary, U.S. Department of Homeland Security.

Eligibility and Employment Authorization for TPS

Required Application Forms and Application Fees To Register for TPS

To register for TPS based on the designation of Burma, you must submit a Form I-821, Application for Temporary Protected Status, and pay the filing fee (or request a fee waiver, which you may submit on Form I-912, Request for Fee Waiver). You may be required to pay the biometric services fee. If you can demonstrate an inability to pay the biometric services fee, you may request to have the fee waived. Please see additional information under the “Biometric Services Fee” section of this notice.

TPS beneficiaries are authorized to work in the United States. You are not required to submit Form I-765 or have an EAD but see below for more information if you want to work in the United States.

Individuals who have a Burma TPS application (Form I-821) that was still pending as of September 27, 2022 do not need to file the application again. If USCIS approves an individual's Form I-821, USCIS will grant the individual TPS through May 25, 2024.

For more information on the application forms and fees for TPS, please visit the USCIS TPS web page at uscis.gov/tps. Fees for the Form I-821, the Form I-765, and biometric services are also described in 8 CFR 103.7(b)(1)(i).

How can TPS beneficiaries obtain an Employment Authorization Document (EAD)?

Every employee must provide their employer with documentation showing that they have the legal right to work in the United States. TPS beneficiaries are eligible for an EAD, which proves their legal right to work. Those who want to obtain an EAD must file a Form I-765, Application for Employment Authorization, and pay the Form I-765 fee (or request a fee waiver, which you may submit on Form I-912, Request for Fee Waiver). TPS applicants may file this form along with their TPS application, or at a later date, provided their TPS application is still pending or has been approved. Beneficiaries with a Burmese TPS-related Form I-765 application that was still pending as of September 27, 2022 do not need to file the application again. If USCIS approves a pending TPS-related Form I-765, USCIS will issue the individual a new EAD that will be valid through May 25, 2024.

Refiling an Initial TPS Registration Application After Receiving a Denial of a Fee Waiver Request

If you receive a denial of a fee waiver request, you must refile your Form I-821 for TPS along with the required fees during the registration period, which extends until May 25, 2024. You may also file for your Form I-765 with payment of the fee along with your TPS application or at any later date you decide you want to request an EAD during the registration period.

Filing Information

USCIS offers the option to applicants for TPS under Burma's designation to file Form I-821 and related requests for EADs online or by mail. When filing a TPS application, applicants can also request an EAD by submitting a completed Form I-765, Request for Employment Authorization, with their Form I-821.

Online filing: Form I-821 and I-765 are available for concurrent filing online.⁴¹ To file these forms online, you must first create a USCIS online account.⁴²

⁴¹ Find information about online filing at “Forms Available to File Online,” https://www.uscis.gov/file-online/forms-available-to-file-online.

⁴² https://myaccount.uscis.gov/users/sign_up.

Mail filing: Mail your application for TPS to the proper address in Table 1.

Table 1—Mailing Addresses

Mail your completed Form I-821, Application for Temporary Protected Status; Form I-765, Application for Employment Authorization; Form I-912, Request for Fee Waiver (if applicable); and supporting documentation to the proper address in Table 1.

Table 1—Mailing Addresses
If . . . | Mail to . . .
You are using the U.S. Postal Service (USPS) | USCIS, Attn: TPS Burma, P.O. Box 6943, Chicago, IL 60680-6943.
You are using FedEx, UPS, or DHL | USCIS, Attn: TPS Burma (Box 6943), 131 S Dearborn 3rd Floor, Chicago, IL 60603-5517.

If you were granted TPS by an immigration judge (IJ) or the Board of Immigration Appeals (BIA) and you wish to request an EAD, please mail your Form I-765 application to the appropriate mailing address in Table 1. When you are requesting an EAD based on an IJ/BIA grant of TPS, please include a copy of the IJ or BIA order granting you TPS with your application. This will help us verify your grant of TPS and process your application.

Supporting Documents

The filing instructions on the Form I-821 list all the documents needed to establish eligibility for TPS. You may also find information on the acceptable documentation and other requirements for applying (that is, registering) for TPS on the USCIS website at uscis.gov/tps under “Burma.”

Travel

TPS beneficiaries may also apply for and be granted travel authorization as a matter of discretion. You must file for travel authorization if you wish to travel outside of the United States. If granted, travel authorization gives you permission to leave the United States and return during a specific period. To request travel authorization, you must file Form I-131, Application for Travel Document, available at www.uscis.gov/i-131. You may file Form I-131 together with your Form I-821 or separately. When filing the Form I-131, you must:

• Select Item Number 1.d. in Part 2 on the Form I-131; and

• Submit the fee for the Form I-131, or request a fee waiver, which you may submit on Form I-912, Request for Fee Waiver.

If you are filing Form I-131 together with Form I-821, send your forms to the address listed in Table 1. If you are filing Form I-131 separately based on a pending or approved Form I-821, send your form to the address listed in Table 2 and include a copy of Form I-797 for the approved or pending Form I-821.

Table 2—Mailing Addresses
If you are . . . | Mail to . . .
Filing Form I-131 together with a Form I-821, Application for Temporary Protected Status | The address provided in Table 1.
Filing Form I-131 based on a pending or approved Form I-821, and you are using the U.S. Postal Service (USPS): You must include a copy of the receipt notice (Form I-797C) showing we accepted or approved your Form I-821 | USCIS, Attn: I-131 TPS, P.O. Box 660167, Dallas, TX 75266-0867.
Filing Form I-131 based on a pending or approved Form I-821, and you are using FedEx, UPS, or DHL: You must include a copy of the receipt notice (Form I-797C) showing we accepted or approved your Form I-821 | USCIS, Attn: I-131 TPS, 2501 S State Hwy. 121 Business, Ste. 400, Lewisville, TX 75067.

Biometric Services Fee for TPS

Biometrics (such as fingerprints) are required for all applicants 14 years of age and older. Those applicants must submit a biometric services fee. As previously stated, if you are unable to pay the biometric services fee, you may request a fee waiver, which you may submit on Form I-912, Request for Fee Waiver. For more information on the application forms and fees for TPS, please visit the USCIS TPS web page at uscis.gov/tps. If necessary, you may be required to visit an Application Support Center to have your biometrics captured. For additional information on the USCIS biometric screening process, please see the USCIS Customer Profile Management Service Privacy Impact Assessment, available at dhs.gov/privacy.

General Employment-Related Information for TPS Applicants and Their Employers

How can I obtain information on the status of my TPS application and EAD request?

To get case status information about your TPS application, as well as the status of your TPS-based EAD request, you can check Case Status Online at uscis.gov, or visit the USCIS Contact Center at uscis.gov/contactcenter. If your Form I-765 has been pending for more than 90 days, and you still need assistance, you may ask a question about your case online at egov.uscis.gov/e-request/Intro.do or call the USCIS Contact Center at 800-375-5283 (TTY 800-767-1833).

Am I eligible to receive an automatic extension of my current EAD through November 25, 2023, using this Federal Register notice?

Yes. Regardless of your country of birth, provided that you currently have a Burma TPS-based EAD that has the notation A-12 or C-19 under Category and a “Card Expires” date of November 25, 2022, this Federal Register notice automatically extends your EAD through November 25, 2023. Although this Federal Register notice automatically extends your EAD through November 25, 2023, you must re-register timely for TPS in accordance with the procedures described in this Federal Register notice to maintain your TPS and employment authorization.

When hired, what documentation may I show to my employer as evidence of identity and employment authorization when completing Form I-9?

You can find the Lists of Acceptable Documents on Form I-9, Employment Eligibility Verification, as well as the Acceptable Documents web page at uscis.gov/i-9-central/acceptable-documents. Employers must complete Form I-9 to verify the identity and employment authorization of all new employees. Within three days of hire, employees must present acceptable documents to their employers as evidence of identity and employment authorization to satisfy Form I-9 requirements.

You may present any document from List A (which provides evidence of both identity and employment authorization) or one document from List B (which provides evidence of your identity) together with one document from List C (which provides evidence of employment authorization), or you may present an acceptable receipt as described in the Form I-9 Instructions. Employers may not reject a document based on a future expiration date. You can find additional information about Form I-9 on the I-9 Central web page at uscis.gov/I-9Central. An EAD is an acceptable document under List A. See the section “How do my employer and I complete Form I-9 using my automatically extended EAD for a new job?” of this Federal Register notice for further information. If your EAD states A-12 or C-19 under Category and has a Card Expires date of November 25, 2022, it has been extended automatically by virtue of this Federal Register notice and you may choose to present your EAD to your employer as proof of identity and employment eligibility for Form I-9 through November 25, 2023, unless your TPS has been withdrawn or your request for TPS has been denied. Your country of birth notated on the EAD does not have to reflect the TPS designated country of Burma for you to be eligible for this extension.

What documentation may I present to my employer for Form I-9 if I am already employed but my current TPS-related EAD is set to expire?

Even though we have automatically extended your EAD, your employer is required by law to ask you about your continued employment authorization. Your employer may need to re-inspect your automatically extended EAD to check the “Card Expires” date and Category code if your employer did not keep a copy of your EAD when you initially presented it. Once your employer has reviewed the “Card Expires” date and Category code, your employer should update the EAD expiration date in Section 2 of Form I-9. See the section “What updates should my current employer make to Form I-9 if my EAD has been automatically extended?” of this Federal Register notice for further information. You may show this Federal Register notice to your employer to explain what to do for Form I-9 and to show that USCIS has automatically extended your EAD through November 25, 2023, but you are not required to do so. The last day of the automatic EAD extension is November 25, 2023. Before you start work on November 26, 2023, your employer is required by law to reverify your employment authorization on Form I-9. By that time, you must present any document from List A or any document from List C on Form I-9 Lists of Acceptable Documents, or an acceptable List A or List C receipt described in the Form I-9 instructions to reverify employment authorization.

Your employer may not specify which List A or List C document you must present and cannot reject an acceptable receipt.

If I have an EAD based on another immigration status, can I obtain a new TPS-based EAD?

Yes, if you are eligible for TPS, you can obtain a new TPS-based EAD, regardless of whether you have an EAD or work authorization based on another immigration status. If you want to obtain a new TPS-based EAD valid through May 25, 2024, then you must file Form I-765, Application for Employment Authorization, and pay the associated fee (unless USCIS grants your fee waiver request).

Can my employer require that I provide any other documentation such as evidence of my status or proof of my Burmese citizenship or a Form I-797C showing that I registered for TPS for Form I-9 completion?

No. When completing Form I-9, employers must accept any documentation you choose to present from the Form I-9 Lists of Acceptable Documents that reasonably appears to be genuine and that relates to you, or an acceptable List A, List B, or List C receipt. Employers need not reverify List B identity documents. Employers may not request proof of Burmese citizenship or proof of registration for TPS when completing Form I-9 for new hires or reverifying the employment authorization of current employees. If you present an EAD that USCIS has automatically extended, employers should accept it as a valid List A document so long as the EAD reasonably appears to be genuine and to relate to you. Refer to the “Note to Employees” section of this Federal Register notice for important information about your rights if your employer rejects lawful documentation, requires additional documentation, or otherwise discriminates against you based on your citizenship or immigration status, or your national origin.

How do my employer and I complete Form I-9 using my automatically extended EAD for a new job?

When using an automatically extended EAD to complete Form I-9 for a new job before November 26, 2023:

1. For Section 1, you should:

a. Check “An alien authorized to work until” and enter November 25, 2023, as the “expiration date”; and

b. Enter your USCIS number or A-Number where indicated. (Your EAD or other document from DHS will have your USCIS number or A-Number printed on it; the USCIS number is the same as your A-Number without the A prefix.)

2. For Section 2, employers should:

a. Determine if the EAD is auto-extended by ensuring it is in category A-12 or C-19 and has a “Card Expires” date of November 25, 2022;

b. Write in the document title;

c. Enter the issuing authority;

d. Provide the document number; and

e. Write November 25, 2023, as the expiration date.

Before the start of work on November 26, 2023, employers must reverify the employee's employment authorization on Form I-9.

What updates should my current employer make to Form I-9 if my EAD has been automatically extended?

If you presented a PTS-related EAD that was valid when you first started your job and USCIS has now automatically extended your EAD, your employer may need to re-inspect your current EAD if they do not have a copy of the EAD on file. Your employer should determine if your EAD is automatically extended by ensuring that it contains Category A-12 or C-19 on the front of the card and has a “Card Expires” date of November 25, 2022. The employer may not rely on the country of birth listed on the card to determine whether you are eligible for this extension.

If your employer determines that USCIS has automatically extended your EAD, your employer should update Section 2 of your previously completed Form I-9 as follows:

1. Write EAD EXT and November 25, 2023, as the last day of the automatic extension in the Additional Information field; and

2. Initial and date the correction.

Note: This is not considered a reverification. Employers do not reverify the employee until either the one-year automatic extension has ended, or the employee presents a new document to show continued employment authorization, whichever is sooner. By November 26, 2023, when the employee's automatically extended EAD has expired, employers are required by law to reverify the employee's employment authorization on Form I-9.

If I am an employer enrolled in E-Verify, how do I verify a new employee whose EAD has been automatically extended?

Employers may create a case in E-Verify for a new employee by entering the number from the Document Number field on Form I-9 into the document number field in E-Verify. Employers should enter Novemer 25, 2023, as the expiration date for an EAD that has been extended under this Federal Register notice.

If I am an employer enrolled in E-Verify, what do I do when I receive a “Work Authorization Documents Expiring” alert for an automatically extended EAD?

E-Verify automated the verification process for TPS-related EADs that are automatically extended. If you have employees who provided a TPS-related EAD when they first started working for you, you will receive a “Work Authorization Documents Expiring” case alert when the auto-extension period for this EAD is about to expire. Before this employee starts work on November 26, 2023, you must reverify their employment authorization on Form I-9. Employers may not use E-Verify for reverification.

Note to All Employers

Employers are reminded that the laws requiring proper employment eligibility verification and prohibiting unfair immigration-related employment practices remain in full force. This Federal Register notice does not supersede or in any way limit applicable employment verification rules and policy guidance, including those rules setting forth reverification requirements. For general questions about the employment eligibility verification process, employers may call USCIS at 888-464-4218 (TTY 877-875-6028) or email USCIS at I-9Central@uscis.dhs.gov. USCIS accepts calls and emails in English and many other languages. For questions about avoiding discrimination during the employment eligibility verification process (Form I-9 and E-Verify), employers may call the U.S. Department of Justice, Civil Rights Division, Immigrant and Employee Rights Section (IER) Employer Hotline at 800-255-8155 (TTY 800-237-2515). IER offers language interpretation in numerous languages. Employers may also email IER at IER@usdoj.gov.

Note to Employees

For general questions about the employment eligibility verification process, employees may call USCIS at 888-897-7781 (TTY 877-875-6028) or email USCIS at I-9Central@uscis.dhs.gov. USCIS accepts calls in English, Spanish and many other languages. Employees or job applicants may also call the IER Worker Hotline at 800-255-7688 (TTY 800-237-2515) for information regarding employment discrimination based on citizenship, immigration status, or national origin, including discrimination related to Form I-9 and E-Verify. The IER Worker Hotline provides language interpretation in numerous languages.

To comply with the law, employers must accept any document or combination of documents from the Lists of Acceptable Documents if the documentation reasonably appears to be genuine and to relate to the employee, or an acceptable List A, List B, or List C receipt as described in the Form I-9 Instructions. Employers may not require extra or additional documentation beyond what is required for Form I-9 completion. Further, employers participating in E-Verify who receive an E-Verify case result of “Tentative Nonconfirmation” (TNC) must promptly inform employees of the TNC and give such employees an opportunity to contest the TNC. A TNC case result means that the information entered into E-Verify from Form I-9 differs from records available to DHS.

Employers may not terminate, suspend, delay training, withhold or lower pay, or take any adverse action against an employee because of a TNC while the case is still pending with E-Verify. A Final Nonconfirmation (FNC) case result is received when E-Verify cannot confirm an employee's employment eligibility. An employer may terminate employment based on a case result of FNC. Work-authorized employees who receive an FNC may call USCIS for assistance at 888-897-7781 (TTY 877-875-6028). For more information about E-Verify-related discrimination or to report an employer for discrimination in the E-Verify process based on citizenship, immigration status, or national origin, contact IER's Worker Hotline at 800-255-7688 (TTY 800-237-2515). Additional information about proper nondiscriminatory Form I-9 and E-Verify procedures is available on the IER website at justice.gov/ierandtheUSCISandE-Verifywebsitesatuscis.gov/i-9-central and e-verify.gov.

Note Regarding Federal, State, and Local Government Agencies (Such as Departments of Motor Vehicles)

For Federal purposes, TPS beneficiaries presenting an automatically extended EAD referenced in this Federal Register notice do not need to show any other document, such as an I-797C Notice of Action or this Federal Register notice, to prove that they qualify for this extension. While Federal Government agencies must follow the guidelines laid out by the Federal Government, State and local government agencies establish their own rules and guidelines when granting certain benefits. Each state may have different laws, requirements, and determinations about what documents you need to provide to prove eligibility for certain benefits. Whether you are applying for a Federal, State, or local government benefit, you may need to provide the government agency with documents that show you are a TPS beneficiary, show you are authorized to work based on TPS or other status, or may be used by DHS to determine if you have TPS or another immigration status. Examples of such documents are:

• Your current EAD with a TPS category code of A-12 or C-19, even if your country of birth noted on the EAD does not reflect the TPS designated country of Burma;

• Your Form I-94, Arrival/Departure Record;

• Your Form I-797, Notice of Action, reflecting approval of your Form I-765; or

• Form I-797, Notice of Action, reflecting approval or receipt of a past or current Form I-821.

Check with the government agency regarding which document(s) the agency will accept. Some benefit-granting agencies use the SAVE program to confirm the current immigration status of applicants for public benefits.

While SAVE can verify when an individual has TPS, each agency's procedures govern whether they will accept an unexpired EAD, Form I-797, or Form I-94, Arrival/Departure Record. If an agency accepts the type of TPS-related document you are presenting, such as an EAD, the agency should accept your automatically extended EAD, regardless of the country of birth listed on the EAD. Regardless of the TPS-related document you present, it may assist the agency if you:

a. Present the agency with a copy of the relevant Federal Register notice listing the TPS-related document, including any applicable auto-extension of the document, along with your recent TPS-related document with your A-Number, or USCIS number;

b. Explain that SAVE will be able to verify the continuation of your TPS using this information; and

c. Ask the agency to initiate a SAVE query with your information and follow through with additional verification steps, if necessary, to get a final SAVE response verifying your TPS.

You can also ask the agency to look for SAVE notices or contact SAVE if they have any questions about your immigration status or automatic extension of TPS-related documentation. In most cases, SAVE provides an automated electronic response to benefit-granting agencies within seconds, but occasionally verification can be delayed. You can check the status of your SAVE verification by using CaseCheck at save.uscis.gov/casecheck/. CaseCheck is a free service that lets you follow the progress of your SAVE verification case using your date of birth and one immigration identifier number (A-Number, USCIS number, or Form I-94 number) or Verification Case Number. If an agency has denied your application based solely or in part on a SAVE response, the agency must offer you the opportunity to appeal the decision in accordance with the agency's procedures. If the agency has received and acted on or will act on a SAVE verification and you do not believe the SAVE response is correct, the SAVE website, www.uscis.gov/save, has detailed information on how to make corrections or update your immigration record, make an appointment, or submit a written request to correct records.

[FR Doc. 2022-20784 Filed 9-26-22; 8:45 am]

BILLING CODE 9111-97-P